DEPARTMENT OF ENERGY

Federal Energy Regulatory Commission

Combined Notice of Filings

Take notice that the Commission has received the following Natural Gas Pipeline Rate and Refund Report filings:

Filings Instituting Proceedings

Docket Numbers: RP14-1042-000.

Applicants: El Paso Natural Gas Company, L.L.C.

Description: Non-Conforming Agreement Filing (City of Mesa) to be effective 7/9/2014.

Filed Date: 6/9/14.

Accession Number: 20140609-5128.

Comments Due: 5 p.m. ET 6/23/14.

Docket Numbers: RP14-1043-000.

Applicants: Northern Natural Gas Company.

Description: 20140609 Negotiated Rate to be effective 6/10/2014.

Filed Date: 6/9/14.

Accession Number: 20140609-5171.

Comments Due: 5 p.m. ET 6/23/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-1031-001.

Applicants: Eastern Shore Natural Gas Company.

Description: Fuel Retention and Cash-Out Adjustment to be effective 7/1/2014.

Filed Date: 6/9/14.

Accession Number: 20140609-5154.

Comments Due: 5 p.m. ET 6/23/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2014.
Kimberly D. Bose,
Secretary.

[FR Doc. 2014-14073 Filed 6-16-14; 8:45 am]

BILLING CODE 6717-01-P